DEPARTMENT OF COMMERCE

International Trade Administration

[A-475-703]

Notice of Final Results of Antidumping Duty Administrative Review: Granular Polytetrafluoroethylene Resin from Italy

AGENCY: Import Administration, International Trade Administration, Department of Commerce.

SUMMARY: On September 10 , 2002, the Department of Commerce (the Department) published the preliminary results of its thirteenth administrative review of the antidumping duty order on Granular Polytetrafluoroethylene (PTFE) Resin from Italy. The review covers one producer/exporter of the subject merchandise, Ausimont SpA, and its U.S. affiliate, Ausimont USA (Ausimont). The period of review (POR) is August 1, 2000, through July 31, 2001. Based on our analysis of comments received, these final results differ from the preliminary results. The final results are listed below in the Final Results of Review section.

EFFECTIVE DATE: January 15, 2003.

FOR FURTHER INFORMATION CONTACT: Vicki Schepker or Keith Nickerson, at (202) 482-1756 or (202) 482-3813, respectively; AD/CVD Enforcement, Office V, Group II, Import Administration, International Trade Administration, U.S. Department of Commerce, 14th Street & Constitution Avenue, NW, Washington, D.C. 20230.

SUPPLEMENTARY INFORMATION:

Background

On September 10, 2002, the Department published in the Federal Register the preliminary results of the thirteenth administrative review of the antidumping duty order on PTFE resin from Italy. See Notice of Preliminary Results of Antidumping Duty Administrative Review: Granular Polytetrafluoroethylene Resin from Italy, 67 FR 57376 (September 10, 2002) (Preliminary Results). On September 17, 2002, we received from Ausimont its response to sections B and D of the supplemental questionnaire.

We invited parties to comment on the Preliminary Results. On October 10, 2002, we received case briefs from both the petitioner, E.I. Dupont de Nemours & Company (Dupont) and Ausimont. On October 17, 2002, we received rebuttal briefs from both Dupont and Ausimont. The Department rejected, and requested resubmission of, DuPont's rebuttal brief on October 28, 2002, because that brief advanced a new argument not present in the petitioner's case brief and not responsive to arguments in the respondent's case brief. The petitioner resubmitted its rebuttal brief on November 1, 2002. Additionally, on October 31, 2002, the Department issued a second supplemental questionnaire to Ausimont. Ausimont submitted its response to this questionnaire on November 14, 2002, and the petitioner submitted comments on Ausimont's response on November 25, 2002.

A public hearing was held on December 9, 2002, at which the parties discussed the issues contained in the case and rebuttal briefs, as well as Ausimont's second supplemental questionnaire response and the petitioner's November 25, 2002, comments.

Scope of the Review

The product covered by this review is granular PTFE resin, filled or unfilled. This order also covers PTFE wet raw polymer exported from Italy to the United States. See Final Affirmative Determination; Granular Polytetrafluoroethylene Resin from Italy, 58 FR 26100 (April 30, 1993). This order excludes PTFE dispersions in water and fine powders. During the period covered by this review, such merchandise was classified under item number 3904.61.00 of the Harmonized Tariff Schedule of the United States (HTS). We are providing this HTS number for convenience and U.S. Customs purposes only. The written description of the scope remains dispositive.

Analysis of Comments Received

All issues raised in the case briefs, and post-briefing submissions, by parties to this administrative review are addressed in the “Issues and Decision Memorandum” (Decision Memorandum) from Bernard T. Carreau, Deputy Assistant Secretary, Import Administration, to Faryar Shirzad, Assistant Secretary for Import Administration, dated January 8, 2003, which is hereby adopted by this notice. Attached to this notice, as an appendix, is a list of the issues which parties have raised and to which we have responded in the Decision Memorandum. Parties can find a complete discussion of all issues raised in this review and the corresponding recommendations in this memorandum, which is on file in the Central Records Unit (CRU), Room B-099 of the main Commerce building. In addition, a complete version of the Decision Memorandum can be accessed directly on the Web at ia.ita.doc.gov. The paper copy and the electronic version of the Decision Memorandum are identical in content.

Changes Since the Preliminary Results

Based on our analysis of comments received, we made the following adjustments to the calculation methodology in determining the final dumping margins in the proceeding:

• We were unable to calculate the margin for a substantial quantity of unreported further manufactured sales and, therefore, we applied adverse facts available to the quantity of unreported sales. See Comment 1 of the Decision Memorandum.

• In calculating both the costs of production for the cost test and the constructed export price (CEP) profit ratio, we used a general and administrative (G&A) expenses rate based on adverse facts available. See Comment 2 of the Decision Memorandum.

• We treated home market “off spec” sales, which were reported after the preliminary results, as non-prime merchandise, and did not compare them to U.S. sales of prime merchandise. See Comment 4 of the Decision Memorandum.

• For home market sales with missing inland freight expenses, as facts available, we applied the freight expense from the most similar sale in terms of customer, product, quantity and destination. See Final Results Calculation Memorandum to Constance Handley from Vicki Schepker and Keith Nickerson, dated January 8, 2003, (Calculation Memorandum) also on file in the CRU.

• We used Ausimont's POR costs, reported after the preliminary results, in the final results calculation. See Calculation Memorandum.

• For further manufactured sales, we used the revised further manufacturing costs provided in Ausimont's November 14, 2002, supplemental questionnaire response. See Comment 6 of the Decision Memorandum.

• We made adjustments to packing, variable and total cost, and indirect selling expense variables, where appropriate, to reflect proper currencies and units of measure. See Calculation Memorandum.

These adjustments are discussed in the Decision Memorandum and in the Calculation Memorandum.

Facts Available

Section 776(a)(2) of the Act provides that “if an interested party or any other person (A) withholds information that has been requested by the administering authority; (B) fails to provide such information by the deadlines for the submission of the information or in the form and manner requested, subject to subsections (c)(1) and (e) of section 782; (C) significantly impedes a proceeding under this title; or (D) provides such information but the information cannot be verified as provided in section 782(i), the administering authority shall, subject to section 782(d), use the facts otherwise available in reaching the applicable determination under this title.” In addition, section 776(b) of the Act provides that, if the Department finds that an interested party “has failed to cooperate by not acting to the best of its ability to comply with a request for information,” the Department may use information that is adverse to the interests of the party as the facts otherwise available. The statute also provides that such an adverse inference may be based on secondary information, including information drawn from the petition, a final determination in an investigation, any previous administrative review, or any other information placed on the record. In this case, the Department has applied partial facts available for a quantity of unreported sales and the general and administrative expense ratio. (See the Decision Memorandum at comments 1 and 2).

Final Results of Review

As a result of our review, we determine that the following weighted-average margin exists for the period of August 1, 2000, through July 31, 2001:

Exporter/Manufacturer | Weighted-Average Margin Percentage
Ausimont SpA | 12.08

The Department shall determine, and the Customs Service shall assess, antidumping duties on all appropriate entries. In accordance with 19 CFR 351.212(b)(1), we have calculated importer-specific assessment rates by dividing the dumping margin found on the subject merchandise examined by the entered value of such merchandise. Where the importer-specific assessment rate is above de minimis we will instruct the Customs Service to assess antidumping duties on that importer's entries of subject merchandise. The Department will issue appropriate assessment instructions directly to the Customs Service within 15 days of publication of these final results of review.

Furthermore, the following deposit requirements will be effective for all shipments of the subject merchandise entered, or withdrawn from warehouse, for consumption on or after the publication date of these final results of administrative review, as provided by section 751(a) of the Act: (1) for the exporter/manufacturer covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 46.46 percent, the “All Others” rate established in the less-than-fair-value investigation (53 FR 26096, July 11, 1988). These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305(a)(3). Timely written notification of the return/destruction of APO materials or conversion to judicial protective order is hereby requested. Failure to comply with the regulations and the terms of an APO is a sanctionable violation.

We are issuing and publishing these results and notice in accordance with sections 751(a)(1) and 777(i)(1) of the Act.

Dated: January 8, 2003.
Faryar Shirzad,
Assistant Secretary for Import Administration.

Appendix

1. Unreported further manufactured sales

2. Calculation of the CEP profit ratio

3. Application of the special rule

4. Treatment of sales of off-spec merchandise

5. Treatment of negative margins

6. Packing expenses for further manufactured sales

7. Issuance of draft final results

8. Factory overhead and G&A expenses for further manufactured sales

[FR Doc. 03-883 Filed 1-14-03; 8:45 am]

BILLING CODE 3510-DS-S